DEPARTMENT OF THE INTERIOR

National Park Service

[NPS-WASO-NAGPRA-NPS0039210; PPWOCRADN0-PCU00RP14.R50000]

Notice of Inventory Completion: Fowler Museum at UCLA, Los Angeles, CA

AGENCY: National Park Service, Interior.

ACTION: Notice.

SUMMARY: In accordance with the Native American Graves Protection and Repatriation Act (NAGPRA), the Fowler Museum at UCLA has completed an inventory of human remains and associated funerary objects and has determined that there is a cultural affiliation between the human remains and associated funerary objects and Indian Tribes or Native Hawaiian organizations in this notice.

DATES: Repatriation of the human remains and associated funerary objects in this notice may occur on or after January 17, 2025.

ADDRESSES: Allison Fischer-Olson, Fowler Museum at UCLA, Box 951549, Los Angeles, CA 90095-1549, telephone (310) 825-1864, email afischerolson@arts.ucla.edu.

SUPPLEMENTARY INFORMATION: This notice is published as part of the National Park Service's administrative responsibilities under NAGPRA. The determinations in this notice are the sole responsibility of the Fowler Museum at UCLA, and additional information on the determinations in this notice, including the results of consultation, can be found in its inventory or related records. The National Park Service is not responsible for the determinations in this notice.

Abstract of Information Available

Three bags and 2,125 individual associated funerary objects are flake tools, flakes, cores, hammerstones, an ash/clay chunk, groundstone fragments, utilized flakes, post fragments, manos and mano fragments, shell beads, pestles and pestle fragments, battered rock, projectile points, core tools, bone awls and awl fragments, worked bone, polished bone, chipping debitage, stone fragments, faunal bone, gorges, arrow shaft straightener, burned and unburned acorns, bone whistle parts, a dirt root cast, charcoal beam fragments, scrapers, mortars, pounders, baked clay, cobbles, charcoal, boiling stones, and shell fragments. Of the total associated funerary objects, three bags and 62 individual items are present. The associated funerary objects were recovered from the Case Site (4-TEH-S246), which is located in southern Tehama County near Vina, California. In 1965, UCLA Archaeological Survey excavated the site under the direction of Donald S. Miller and Phil Burnham. The collection was recorded as never having been received until a small portion was found mixed with another accession/collection. The remainder may have been retained by the property owner. Human remains were found at the site by the property owner but are not present. During consultations, the Tribal Representative from Paskenta Band of Nomlaki Indians identified this as a Wintun site that is within the ancestral territory of the Tribe. Due to the presence of human remains, the representative identified the entire site, and any material found there, as culturally sensitive. There is no known use of potentially hazardous substances for treatment of the associated funerary objects.

Human remains representing, at least, two individuals have been identified. The 169 bags and 516 individual associated funerary objects are flakes, cores, core tools, faunal bone, bone awls and awl fragments, cobbles, fire stones, manos and mano fragments, choppers, pounding stones, acorns, projectile points and point fragments, hammerstones, nodules, bone whistle parts, flake tools, scrapers, clay fragments, metal fragments, shell pendants, fishhooks, modified bone, fire fractured stone, pestles and pestle fragments, beads, groundstone fragments, stone fragments/samples, digging stones, stone rings, shell fragments, worked flakes, boiling stones, sharpening tools, organics, charcoal, and soil samples. The human remains and associated funerary objects were recovered from the Bambauer Site (4-TEH-S247), which is located in southern Tehama County near Hamilton City, California. In 1965, UCLA Archaeological Survey excavated the site under the direction of Donald S. Miller and Thomas Durbin. The collection is noted as initially going to California State University, Chico under the care of Keith Johnson until 2003, when it was received at UCLA. During 2024 consultations, human remains were located mixed in with faunal bone. Human remains were also recovered in 1974 excavations of the same site, which were repatriated to the Paskenta Band of Nomlaki Indians in 2023. In a 1965 site report, excavation director Thomas Durbin states that 4-TEH-S247 is known to be a Wintun site. During consultations, the Tribal Representative from Paskenta Band of Nomlaki Indians also identified this as a Wintun site that is within the ancestral territory of the Tribe. Due to the presence of human remains, the representative identified the entire site, and any material found there, as culturally sensitive. There is no known use of potentially hazardous substances for treatment of the human remains or associated funerary objects. No lineal descendant can be determined.

Cultural Affiliation

Based on the information available and the results of consultation, cultural affiliation is clearly identified by the information available about the human remains and associated funerary objects described in this notice.

Determinations

The Fowler Museum at UCLA has determined that:

• The human remains described in this notice represent the physical remains of two individuals of Native American ancestry.

• The 172 bags and 2,641 individual objects described in this notice are reasonably believed to have been placed intentionally with or near individual human remains at the time of death or later as part of the death rite or ceremony.

• There is a connection between the human remains and associated funerary objects described in this notice and the Paskenta Band of Nomlaki Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 17, 2025. If competing requests for repatriation are received, the Fowler Museum at UCLA must determine the most appropriate requestor prior to repatriation. Requests for joint repatriation of the human remains and associated funerary objects are considered a single request and not competing requests. The Fowler Museum at UCLA is responsible for sending a copy of this notice to the Indian Tribes and Native Hawaiian organizations identified in this notice.

Authority: Native American Graves Protection and Repatriation Act, 25 U.S.C. 3003, and the implementing regulations, 43 CFR 10.10.

Dated: December 11, 2024.
Melanie O'Brien,
Manager, National NAGPRA Program.

[FR Doc. 2024-29939 Filed 12-17-24; 8:45 am]

BILLING CODE 4312-52-P